DEPARTMENT OF HEALTH AND HUMAN SERVICES

Health Resources and Services Administration

Reimbursement of Travel and Subsistence Expenses Toward Living Organ Donation Eligibility Guidelines

AGENCY: Health Resources and Services Administration, HHS.

ACTION: Request for Comments on Proposed Changes to the Reimbursement of Travel and Subsistence Expenses Program Eligibility Criteria.

SUMMARY: The Health Resources and Services Administration (HRSA) published the final eligibility guidelines for the Reimbursement of Travel and Subsistence Expense Program in the Federal Register on October 5, 2007 (72 FR 57049). The purpose of this notice was to inform the public of the eligibility requirements for participation in the Reimbursement of Travel and Subsistence Expenses toward Living Organ Donation Program. HRSA is requesting public comments concerning recommended change to a specific section of the reimbursement program eligibility guidelines.

DATES: Written comments must be submitted to the office in the address section below by mail or e-mail on or before April 4, 2008.

ADDRESSES: Please send all written comments to James F. Burdick, M.D., Director, Division of Transplantation, Healthcare Systems Bureau, Health Resources and Services Administration, Room 12C-06, Parklawn Building, 5600 Fishers Lane, Rockville, Maryland 20857; telephone (301) 443-7577; fax (301) 594-6095; or e-mail: jburdick@hrsa.gov.

FOR FURTHER INFORMATION CONTACT: James F. Burdick, M.D., Director, Division of Transplantation, Healthcare Systems Bureau, Health Resources and Services Administration, Parklawn Building, Room 12C-06, 5600 Fishers Lane, Rockville, Maryland 20857; telephone (301) 443-7577; fax (301) 594-6095; or e-mail: jburdick@hrsa.gov.

SUPPLEMENTARY INFORMATION: In its final program eligibility guidelines, HRSA explained that “[t]he Program will pay for a total of up to five trips; three for the donor and two for accompanying persons. The accompanying persons need not be the same each trip.” (72 FR 57052). HRSA proposes amending this paragraph to read: “[t]he Program will pay for a total of up to five trips; three for the donor and two for accompanying persons. However, in cases in which the transplant center requests the donor to return to the transplant center for additional visits as a result of donor complications or other health related issues, NLDAC may provide reimbursement for the additional visit(s) for the donor and an accompanying person. The accompanying persons need not be the same in each trip.” The purpose of this proposed change is to accommodate individuals who experience donor complications or other health related issues relating to donation.

HRSA is requesting comments on this specific section.

Dated: February 26, 2008.
Elizabeth M. Duke,
Administrator.

[FR Doc. E8-4185 Filed 3-4-08; 8:45 am]

BILLING CODE 4165-15-P